DEPARTMENT OF LABOR

Employment and Training Administration

Proposed Extension of the Information Collection Request Submitted for Public Comment and Recommendations; Unemployment Insurance (UI) Benefit Accuracy Measurement (BAM) Program

ACTION: Notice.

SUMMARY: The Department of Labor, as part of its continuing effort to reduce paperwork and respondent burden, conducts a preclearance consultation program to provide the general public and Federal agencies with an opportunity to comment on proposed and/or continuing collections of information in accordance with the Paperwork Reduction Act of 1995(PRA95) [44 U.S.C. 3506(c)(2)(A)]. This program helps to ensure that requested data can be provided in the desired format; reporting burden (time and financial resources) is minimized; collection instruments are clearly understood; and the impact of collection requirements on respondents can be properly assessed.

DATES: Submit comments on or before February 13, 2004.

ADDRESSES: Send comments to Kari M. Baumann, Office of Workforce Security, Employment and Training Administration, U.S. Department of Labor, Room S-4522, 200 Constitution Avenue, NW., Washington, DC 20210.

FOR FURTHER INFORMATION CONTACT: Kari M. Baumann, telephone: 202-693-3286 (this is not a toll-free number); fax: 202-693-3975; e-mail: baumann.kari@dol.gov.

SUPPLEMENTARY INFORMATION:

I. Background

Since 1987, all State Workforce Agencies (SWAs) except in the U.S. Virgin Islands have been required by regulation at 20 CFR Part 602 to operate BAM programs to assess the accuracy of their UI benefit payments in three programs: State UI, Unemployment Compensation for Federal Employees (UCFE), and Unemployment Compensation for Ex-servicemembers (UCX).

The Benefit Accuracy Measurement seeks to reduce waste, fraud, and abuse in the UI system. By investigating small representative weekly samples of both paid and denied UI claims, it enables each state to estimate reliably the number and dollar value of proper and improper payments and denials of UI benefits; the rates of occurrence of these proper and improper payments and denials; and the error types, error causes, and the parties that are responsible for the errors within its system.

The BAM program consists of two comprehensive reviews of a statewide probability sample of UI payments and denials to determine the precise nature of improper payments. States use the same population edit and sample selection software programs to select the weekly samples. This software uses a systematic random sampling algorithm. The survey population excludes supplemental payments, waiting weeks, and extended benefits.

Paid Claims Accuracy. Each week a random sample is selected of both intrastate and interstate original payments (including combined wage claims) made for a week of UI benefits under the State UI, UCX or UCFE programs. A sample of 360 cases per year is pulled in the ten states with the smallest UI program workloads and 480 cases per year in the other states. State BAM staff audit each selected claim, examining all aspects of a claimant's eligibility to receive UI benefits during the sampled week. In an investigation, staff verify wages used to establish monetary entitlements, the claimant's reason for being unemployed, efforts to find work during the week, and any other factors which would have affected the claimant's entitlement to a UI benefit payment during the sampled week or the amount of the benefit paid. The findings are then numerically coded and entered into an automated database that is maintained on a computer located in each state.

Denied Claims Accuracy. On a weekly basis, states select systematic random samples from three separate sampling frames constructed from the universes of UI claims for which eligibility was denied for monetary, separation and nonseparation reasons. All states sample a minimum of 150 cases of each denial type in each calendar year. State BAM staff review agency records and contact claimants, employer(s), and all other relevant parties to verify information in agency records or obtain additional information pertinent to the determination that denies UI benefit eligibility. Unlike the investigation of paid claims, in which all prior determinations affecting claimant eligibility for the compensated week selected for the sample are evaluated, the investigation of denied claims is limited to the issue upon which the denial determination is based. The findings are then numerically coded and entered into an automated database that is maintained on a computer located in each state. Like the investigation of paid claims, states have the flexibility to conduct the investigation of denied claims by in-person interview, telephone, mail, e-mail or fax, as they deem appropriate.

The Department relies heavily on BAM data for information on states' UI operations (e.g., the percent of claims taken by telephone and other remote methods) and performance. These data are reported annually in a data summary report and as part of the UI PERFORMS Annual Report. Further, BAM data are used as part of a overpayment detection measure under the Government Performance and Results Act (GPRA).

II. Desired Focus of Comments

The Employment and Training Administration is soliciting comments concerning the proposed extension of the collection of the UI BAM program data (OMB control number 1205-0245) now authorized through March 31, 2004. The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the information collection handbook (ETA Handbook 395) can be obtained by contacting the employee listed above in the contact section of this notice.

III. Current Actions

Type of Review: Extension.

Agency: Employment and Training Administration.

Title: Unemployment Insurance Benefit Accuracy Measurement Program.

OMB Number: 1205-0245.

Recordkeeping: States are required to follow their state laws regarding public record retention in retaining BAM paid and denied claims records.

Affected Public: Individuals; businesses; other for-profit/not-for-profit institutions; farms; Federal, State, local or tribal governments.

Frequency: Annually.

Total Respondents and Responses: 188,984 per year (52 SWAs/3,634 per state; includes claimants, employers, third parties, and SWA BAM program staff).

Estimated Time Per Case: Paid claims: claimant—0.5 hours; employers—0.85 hours; work search contacts—0.55 hours; third parties—0.05 hours; and SWA BAM staff—8.27 hours. Denied claims: claimant—0.5 hours; employers and third parties—0.5 hours; and SWA BAM staff—6.66 hours (average).

Estimated Total Burden Hours: 423,243 annually (8,139 hours per state).

Total Burden Cost (capital/startup): $0.

Total Burden Cost (operating/maintaining): $12,544,372.73 annually (approximately $241,237.94 per state).

Comments submitted in response to this notice will be summarized and/or included in the request for Office of Management and Budget approval of the information collection request; they will also become a matter of public record.

Dated: December 9, 2003.
Cheryl Atkinson,
Administrator, Office of Workforce Security.

[FR Doc. 03-30856 Filed 12-12-03; 8:45 am]

BILLING CODE 4510-30-P